DEPARTMENT OF COMMERCE

Foreign-Trade Zones Board

[Docket 53-2004]

Foreign-Trade Zone 7—Mayaguez, PR, Application for Subzone, Ortho Biologics, LLC (Pharmaceutical Intermediates), Manatí, PR; Correction

The Federal Register notice (69 FR 70121-70122, 12/02/2004) describing the application by the Puerto Rico Industrial Development Company (PRIDCO), grantee of FTZ 7, requesting special-purpose subzone status for the pharmaceutical intermediate manufacturing facility of Ortho Biologics, LLC (OBI) in Manatí, Puerto Rico, is corrected as follows:

Paragraph 6 should read “A copy of the application and accompanying exhibits will be available for public inspection at the Office of the Foreign-Trade Zones Board's Executive Secretary at address Number 1 listed above, and at the U.S. Department of Commerce Export Assistance Center, Midtown Bldg., 10th Floor, 420 Ponce de Leon Avenue, San Juan, Puerto Rico 00918-3416.”

Dated: December 9, 2004.
Dennis Puccinelli,
Executive Secretary.

[FR Doc. 04-27581 Filed 12-15-04; 8:45 am]

BILLING CODE 3510-DS-P